DEPARTMENT OF ENERGY

Federal Energy Regulatory Commission

[Docket No. CP12-25-000; RP12-220-000 (cancelled)]

Brian Hamilton v. El Paso Natural Gas, El Paso Western Pipelines; Notice Announcing Docket Number Change

On December 2, 2011, the Commission issued a notice in docket number RP12-220-000. Notice of Complaint, December 2, 2011. Commission's staff has decided to cancel the original docket number, RP12-220-000 and give the proceeding a new docket number. This notice changes the docket number of the proceeding to CP12-25-000 as referenced above.

The docket number change does not affect the original comment due date of this proceeding, which is December 21, 2011.

Dated: December 8, 2011.
Nathaniel J. Davis, Sr.,
Deputy Secretary.

[FR Doc. 2011-32149 Filed 12-14-11; 8:45 am]

BILLING CODE 6717-01-P